DEPARTMENT OF THE TREASURY

Office of the Comptroller of the Currency

FEDERAL RESERVE SYSTEM

FEDERAL DEPOSIT INSURANCE CORPORATION

DEPARTMENT OF THE TREASURY

Office of Thrift Supervision

Proposed Agency Information Collection Activities; Comment Request

AGENCIES: Office of the Comptroller of the Currency, Treasury; Board of Governors of the Federal Reserve System; Federal Deposit Insurance Corporation; and Office of Thrift Supervision, Treasury.

ACTION: Joint notice and request for comment; extension of comment period.

SUMMARY: In accordance with the requirements of the Paperwork Reduction Act of 1995 (44 U.S.C. chapter 35), the OCC, the Board, the FDIC, and the OTS (collectively, the agencies) may not conduct or sponsor, and the respondent is not required to respond to, an information collection unless it displays a currently valid Office of Management and Budget (OMB) control number. The Federal Financial Institutions Examination Council (FFIEC), of which the agencies are members, approved the agencies' publication for public comment of proposed new regulatory reporting requirements for banks ¹ that qualify for and adopt the Advanced Capital Adequacy Framework to calculate their risk-based capital requirement or banks that are in the parallel run stage of qualifying to adopt this proposed framework. This notice extends the comment period on this document for consistency with the extension of the comment period for the notice of proposed rulemaking on the Advanced Capital Adequacy Framework, as published elsewhere in today's issue of the Federal Register.

¹ For simplicity, and unless otherwise indicated, this notice uses the term “bank” to include banks, savings associations, and bank holding companies (BHCs). The terms “bank holding company” and “BHC” refer only to bank holding companies regulated by the Board and do not include savings and loan holding companies regulated by the OTS. For a detailed description of the institutions covered by this notice, refer to Part I, Section 1, of the proposed regulatory text in the notice of proposed rulemaking entitled Risk-Based Capital Standards: Advanced Capital Adequacy Framework.

DATES: The comment period for the joint notice and request for comment published at 71 FR 55981 (Sept. 25, 2006) is extended until March 26, 2007.

ADDRESSES: You may submit comments by any of the methods identified in the joint notice on Proposed Agency Information Collection Activities. (See 71 FR 55981, September 25, 2006.)

FOR FURTHER INFORMATION CONTACT: For further information about the proposed regulatory reporting requirements discussed in this notice, please contact any of the agency clearance officers whose names appear below. In addition, copies of reporting schedules and instructions can be obtained at each agency's web site as well as the FFIEC's web site.²

² For the OCC: http://www.occ.treas.gov; for the FDIC: http://www.fdic.gov; for the OTS: http://www.ots.treas.gov; for the Board: http://www.federalreserve.gov/boarddocs/reportforms/review.cfm; and for the FFIEC: http://www.ffiec.gov/ffiec_report_forms.htm.

OCC: Please direct substantive questions to Lorey Hoffman, Large Bank Director, Large Bank Supervision, (202) 874-4595, and requests for copies of the collection to Mary Gottlieb, OCC Clearance Officer, or Camille Dickerson, (202-874-5090), Legislative and Regulatory Activities Division, Office of the Comptroller of the Currency, 250 E Street, SW., Washington, DC 20219.

Board: Michelle Long, Federal Reserve Board Clearance Officer, Division of Research and Statistics, Board of Governors of the Federal Reserve System, Washington, DC 20551 (202-452-3829).

FDIC: Steven F. Hanft, Clearance Officer, at shanft@fdic.gov, (202-898-3907), Legal Division, Federal Deposit Insurance Corporation, 550 17th Street, NW., Washington, DC 20429.

OTS: Marilyn K. Burton, OTS Clearance Officer, at marilyn.burton@ots.treas.gov, (202) 906-6467, or facsimile number (202) 906-6518, Litigation Division, Chief Counsel's Office, Office of Thrift Supervision, 1700 G Street, NW., Washington, DC 20552.

SUPPLEMENTARY INFORMATION: On September 25, 2006, the agencies published a joint notice and request for comment on the proposed reporting requirements (71 FR 55981). Simultaneously with publication of the information collection notice, the agencies published a proposed rule seeking comment on the Advanced Capital Adequacy Framework (Basel II NPR) (71 FR 55830). The comment period on the information collection notice and the Basel II NPR ends on January 23, 2007. Elsewhere in today's issue of the Federal Register, the agencies extended the comment period for the Basel II NPR. The agencies have determined that an extension of the comment period on the information collection notice is appropriate for consistency. At the end of the comment period, the comments and recommendations received will be analyzed to determine the extent to which the FFIEC should modify the proposed reporting requirements prior to giving its final approval. The agencies will then submit the proposed reporting requirements to OMB for review and approval and, upon approval, OMB will assign control numbers.

Dated: December 6, 2006.
Stuart E. Feldstein,
Assistant Director, Legislative and Regulatory Activities Division, Office of the Comptroller of the Currency.
Dated: December 8, 2006.
Board of Governors of the Federal Reserve System.
Jennifer J. Johnson,
Secretary of the Board.
Dated at Washington, DC, this 5th day of December, 2006.
By order of the Board of Directors.
Federal Deposit Insurance Corporation.
Valerie J. Best,
Assistant Executive Secretary.
Dated: December 11, 2006.
Deborah Dakin,
Senior Deputy Chief Counsel, Regulations and Legislation Division, Office of Thrift Supervision.

[FR Doc. 06-9736 Filed 12-21-06; 8:45 am]

BILLING CODE 4810-33-P; 6210-01-P; 6714-01-P; 6720-01-P